ENVIRONMENTAL PROTECTION AGENCY

[9924-98-Region 3]

Notice of Proposed Settlement Agreement Pursuant to CERCLA Section 122(H)(1) and Opportunity for Public Comment: Millsboro TCE Groundwater Contamination Superfund Site

AGENCY: Environmental Protection Agency.

ACTION: Notice; request for public comment.

SUMMARY: In accordance with the Comprehensive Environmental Response, Compensation, and Liability Act (“CERCLA”), notice is hereby given that a proposed administrative settlement agreement for recovery of past response costs (“Proposed Agreement”) associated with Millsboro TCE Groundwater Contamination Superfund Site, Millsboro, Delaware was executed by the Environmental Protection Agency (“EPA”) and is now subject to public comment, after which EPA may modify or withdraw its consent if comments received disclose facts or considerations that indicate that the Proposed Agreement is inappropriate, improper, or inadequate. The Proposed Agreement would resolve potential EPA claims under Section 107(a) of CERCLA, against Intervet, Inc. and Mallinckrodt Veterinary, Inc. (“Settling Parties”). The Proposed Agreement would require Settling Parties to reimburse EPA $950,000.00 for all non-reimbursed past response costs incurred by EPA for the Site through May 27, 2014.

For thirty (30) days following the date of publication of this notice, EPA will receive written comments relating to the Proposed Agreement. EPA's response to any comments received will be available for public inspection at the U.S. Environmental Protection Agency, Region III, 1650 Arch Street, Philadelphia, PA 19103.

DATES: Comments must be submitted on April 20, 2015.

ADDRESSES: The Proposed Agreement and additional background information relating to the Proposed Agreement are available for public inspection at the U.S. Environmental Protection Agency, Region III, 1650 Arch Street, Philadelphia, PA 19103. A copy of the Proposed Agreement may be obtained from Cynthia T. Weiss (3RC42), Senior Assistant Regional Counsel, U.S. Environmental Protection Agency, 1650 Arch Street, Philadelphia, PA 19103. Comments should reference the “Millsboro TCE Contaminated Superfund Site, Proposed Administrative Settlement Agreement for Recovery of Past Response Costs” and “EPA Docket No. CERCLA-03-2015-0036-CR,” and should be forwarded to Cynthia T. Weiss at the above address.

FOR FURTHER INFORMATION CONTACT: Cynthia T. Weiss (3RC42), U.S. Environmental Protection Agency, 1650 Arch Street, Philadelphia, PA 19103, Phone: (215) 814-2659; weiss.cynthia@epa.gov.

Dated: March 4, 2015.
Cecil Rodrigues,
Director, Hazardous Site Cleanup Division, U.S. Environmental Protection Agency, Region III.

[FR Doc. 2015-06445 Filed 3-19-15; 8:45 am]

BILLING CODE 6560-50-P